DEPARTMENT OF HOMELAND SECURITY

Coast Guard

33 CFR Part 117

[Docket No. USCG-2016-0039]

Drawbridge Operation Regulations; Inner Harbor Navigation Canal and Chef Menteur Pass, Both at New Orleans, LA

AGENCY: Coast Guard, DHS.

ACTION: Notice of deviation from drawbridge regulations.

SUMMARY: The Coast Guard has issued a temporary deviation from the operating schedule that governs the Senator Ted Hickey (Leon C. Simon Blvd./Seabrook) bascule bridge across the Inner Harbor Navigation Canal, mile 4.6, at New Orleans, Louisiana, and the US 90 bridge at Chef Menteur Pass over Lake Catherine at Mile 2.8 at New Orleans, Orleans Parish, Louisiana. The deviation is necessary to accommodate the Ochsner Ironman 70.3 New Orleans event. This deviation allows the bridges to remain closed-to-navigation for a scheduled amount of time on the day of the event.

DATES: This deviation is effective from 7 a.m. through 5 p.m. on April 17, 2016.

ADDRESSES: The docket for this deviation, [USCG-2016-0039] is available at http://www.regulations.gov.

FOR FURTHER INFORMATION CONTACT: If you have questions on this temporary deviation, call or email Jim Wetherington, Bridge Administration Branch, Coast Guard, telephone (504)671-2128, email james.r.wetherington@uscg.mil.

SUPPLEMENTARY INFORMATION: Premier Event Management, through the Louisiana Department of Transportation and Development (LDOTD), requested a temporary deviation from the operating schedule of the Senator Ted Hickey (Leon C. Simon Blvd./Seabrook) bascule bridge across the Inner Harbor Navigation Canal, mile 4.6, at New Orleans, Louisiana, and the US 90 Bridge at Chef Menteur Pass over Lake Catherine at Mile 2.8 at New Orleans, Orleans Parish, Louisiana. The deviation was requested to accommodate the Ochsner Ironman 70.3 New Orleans event. The vertical clearance of the Senator Ted Hickey (Leon C. Simon Blvd./Seabrook) bascule bridge is 46 feet above mean high water in the closed-to-navigation position and unlimited in the open-to-navigation position. The bridge is governed by 33 CFR 117.458(c). The vertical clearance of the US 90 swing-span bridge at Chef Menteur Pass over Lake Catherine is 11 feet above mean high water in the closed-to-navigation position and unlimited in the open-to-navigation position. The bridge is governed by 33 CFR 117.436.

This deviation is effective on April 17, 2016. The bridge over the Inner Harbor Navigation Canal will be closed to marine traffic from 8 a.m. through 5 p.m. and the bridge over Chef Menteur Pass will be closed from 7 a.m. through 1 p.m. This deviation allows the bridges to remain closed-to-navigation for the duration of the event as it impacts each bridge according to the schedule.

Navigation on the waterway consists of small tugs with and without tows, commercial vessels, and recreational craft, including sailboats.

Vessels able to pass through these bridges in the closed-to-navigation position may do so at anytime. The bridges will be able to open for emergencies, and there is no immediate alternate route. The Coast Guard will also inform the users of the waterways through our Local and Broadcast Notices to Mariners of the change in operating schedule for each bridge to minimize any impact caused by the temporary deviation.

In accordance with 33 CFR 117.35(e), each drawbridge must return to its regular operating schedule immediately at the end of the effective period of this temporary deviation. This deviation from the operating regulations is authorized under 33 CFR 117.35.

Dated: January 26, 2016.
David M. Frank,
Bridge Administrator, Eighth Coast Guard District.

[FR Doc. 2016-01730 Filed 1-29-16; 8:45 am]

BILLING CODE 9110-04-P